DEPARTMENT OF HEALTH AND HUMAN SERVICES

Health Resources and Services Administration

Charter Renewal for the Advisory Committee on Training in Primary Care Medicine and Dentistry

AGENCY: Health Resources and Services Administration (HRSA), Department of Health and Human Services (HHS).

ACTION: Notice.

SUMMARY: The Advisory Committee on Training in Primary Care Medicine and Dentistry (ACTPCMD or the Committee) has been rechartered. The effective date of the renewed charter is March 24, 2019.

FOR FURTHER INFORMATION CONTACT: Kennita R. Carter, MD, Designated Federal Official, at 301-945-3505 or email at BHWACTPCMD@hrsa.gov. A copy of the current committee membership, charter, and reports can be obtained by accessing the ACTPCMD's website at https://www.hrsa.gov/advisory-committees/primarycare-dentist/index.html.

SUPPLEMENTARY INFORMATION: ACTPCMD provides advice and recommendations to the Secretary of HHS (Secretary) on policy, program development, and other matters of significance concerning the activities under section 747 of Title VII of the Public Health Service (PHS) Act, as it existed upon the enactment of Section 749 of the PHS Act in 1998. ACTPCMD prepares an annual report describing the activities of the Committee, including findings and recommendations made by the Committee concerning the activities under section 747, as well as training programs in oral health and dentistry. The annual report is submitted to the Secretary and Chair and ranking members of the Senate Committee on Health, Education, Labor and Pensions, and the House of Representatives Committee on Energy and Commerce. The Committee also develops, publishes, and implements performance measures and guidelines for longitudinal evaluations of programs authorized under Title VII, Part C, of the PHS Act, and recommends appropriation levels for programs under this Part. Meetings are held not less than twice a year. The recharter for the ACTPCMD was approved on March 20, 2019, and the filing date is March 24, 2019. Recharter of the ACTPCMD gives authorization for the Committee to operate until March 24, 2021.

A copy of the ACTPCMD charter is available on the ACTPCMD website at https://www.hrsa.gov/advisory-committees/primarycare-dentist/index.html. A copy of the charter can also be obtained by accessing the Federal Advisory Committee Act (FACA) database that is maintained by the Committee Management Secretariat under the General Services Administration. The website for the FACA database is http://www.facadatabase.gov/.

Amy P. McNulty,
Acting Director, Division of the Executive Secretariat.

[FR Doc. 2019-06161 Filed 3-29-19; 8:45 am]

BILLING CODE 4165-15-P